DEPARTMENT OF HOMELAND SECURITY

Federal Emergency Management Agency

[Docket ID: FEMA-2023-0022; OMB No. 1660-0149]

Agency Information Collection Activities: Proposed Collection, Comment Request; Requests for Special Priorities Assistance

AGENCY: Federal Emergency Management Agency, Department of Homeland Security.

ACTION: 30-day notice of renewal and request for comments.

SUMMARY: The Federal Emergency Management Agency (FEMA), as part of its continuing effort to reduce paperwork and respondent burden, invites the general public to take this opportunity to comment on an extension, without change, of a currently approved information collection. In accordance with the requirements of the Paperwork Reduction Act of 1995, this notice seeks comments concerning FEMA's Requests for Special Priorities Assistance, FEMA Form FF-112-FY-23-100 (formerly 009-0-142).

DATES: Comments must be submitted on or before December 20, 2023.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Marc Geier, FEMA's Office of Policy and Program Analysis, 500 C Street SW, Washington, DC 20472, at (202) 924-0196, or FEMA-DPA@fema.dhs.gov. You may contact the Information Management Division for copies of the proposed collection of information at email address: FEMA-Information-Collections-Management@fema.dhs.gov.

SUPPLEMENTARY INFORMATION: This information is necessary to support the President's priorities and allocations authority under title I of the Defense Production Act of 1950 (DPA), 50 U.S.C. 4501, et seq, (as amended) as implemented by the Emergency Management Priorities and Allocations System (EMPAS) regulation (44 CFR part 333) which was added by FEMA's Emergency Management Priorities and Allocations System Interim Final Rule (RIN 1660-AB04) dated May 13, 2020. The purpose of this authority is to ensure the timely delivery of products, materials, and services to meet current national defense requirements. The definition of “national defense” in section 702(14) of the DPA provides that this term includes “homeland security,” “emergency preparedness activities” conducted pursuant to title VI of the Robert T. Stafford Disaster Relief and Emergency Assistance Act (Stafford Act) (42 U.S.C. 5195 et seq.), and “critical infrastructure protection and restoration.”

This proposed information collection previously published in the Federal Register on September 1, 2023, at 88 FR 60479 with a 60-day public comment period. No comments were received. The purpose of this notice is to notify the public that FEMA will submit the information collection abstracted below to the Office of Management and Budget for review and clearance.

Collection of Information

Title: Requests for Special Priorities Assistance.

Type of Information Collection: Extension, without change, of a currently approved information collection.

OMB Number: 1660-0149.

FEMA Forms: FEMA Form FF-112-FY-23-100 (009-0-142), Requests for Special Priorities Assistance.

Abstract: Contractors may request Special Priorities Assistance (SPA) when placing rated orders with suppliers, to obtain timely delivery of products, materials or services from suppliers, or for any other reason under the EMPAS, in support of approved national programs. Additionally, when responding to an emergency event like COVID-19, State and local governments, owners, operators, and the private sector may request SPA. These contractors use FEMA Form FF-112-FY-23-100 (formerly 009-0-142) to apply for such assistance.

Affected Public: Private Sector, For-Profit.

Estimated Number of Respondents: 20.

Estimated Number of Responses: 20.

Estimated Total Annual Burden Hours: 6.

Estimated Total Annual Respondent Cost: $352.

Estimated Respondents' Operation and Maintenance Costs: $0.

Estimated Respondents' Capital and Start-Up Costs: $0.

Estimated Total Annual Cost to the Federal Government: $56,440.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2023-25587 Filed 11-17-23; 8:45 am]

BILLING CODE 9111-19-P